DEPARTMENT OF ENERGY

Federal Energy Regulatory Commission

Combined Notice of Filings

Take notice that the Commission has received the following Natural Gas Pipeline Rate and Refund Report filings:

Filings Instituting Proceedings

Docket Numbers: RP13-308-000.

Applicants: Chandeleur Pipe Line Company.

Description: Chandeleur—FLLA Annual Filing to be effective 1/1/2013.

Filed Date: 11/26/12.

Accession Number: 20121126-5022.

Comments Due: 5 p.m. ET 12/10/12.

Docket Numbers: RP13-309-000.

Applicants: Cameron Interstate Pipeline, LLC.

Description: Cameron Interstate Pipeline Annual Adjustment of Fuel Retainage Percentage to be effective 1/1/2013.

Filed Date: 11/26/12.

Accession Number: 20121126-5084.

Comments Due: 5 p.m. ET 12/10/12.

Docket Numbers: RP13-310-000.

Applicants: Vector Pipeline L.P.

Description: Petition for Temporary Exemption From Tariff Provisions of Vector Pipeline L.P.

Filed Date: 11/26/12.

Accession Number: 20121126-5274.

Comments Due: 5 p.m. ET 11/29/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-318-005.

Applicants: Texas Eastern Transmission, LP.

Description: Reservation Charge Credit Response Filing to be effective 12/31/9998.

Filed Date: 11/26/12.

Accession Number: 20121126-5216.

Comments Due: 5 p.m. ET 12/10/12.

Docket Numbers: RP13-52-001.

Applicants: Cimarron River Pipeline, LLC.

Description: NAESB Version 2.0 Tariff Compliance Filing to be effective 12/1/2012.

Filed Date: 11/26/12.

Accession Number: 20121126-5032.

Comments Due: 5 p.m. ET 12/10/12.

Docket Numbers: RP13-53-001.

Applicants: Dauphin Island Gathering Partners.

Description: Dauphin Island Gathering Partners submits tariff filing per 154.203: Tariff Compliance Filing NAESB Version 2.0 to be effective 12/1/2012.

Filed Date: 11/26/12.

Accession Number: 20121126-5034.

Comments Due: 5 p.m. ET 12/10/12.

Docket Numbers: RP13-59-001.

Applicants: Tuscarora Gas Transmission Company.

Description: RP13-59-000 NAESB Compliance to be effective 12/1/2012.

Filed Date: 11/26/12.

Accession Number: 20121126-5021.

Comments Due: 5 p.m. ET 12/10/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 27, 2012.
Nathaniel J. Davis, Sr.,
Deputy Secretary.

[FR Doc. 2012-29196 Filed 12-3-12; 8:45 am]

BILLING CODE 6717-01-P